DEPARTMENT OF HEALTH AND HUMAN SERVICES

Centers for Disease Control and Prevention

[Docket Number CDC-2016-0074; NIOSH 156-B]

National Institute for Occupational Safety and Health Draft Immediately Dangerous to Life or Health (IDLH) Value Profile for Peracetic Acid (CAS #79-21-0)

AGENCY: National Institute for Occupational Safety and Health (NIOSH) of the Centers for Disease Control and Prevention (CDC), Department of Health and Human Services (HHS).

ACTION: Notice of draft document for public comment.

SUMMARY: On May 1, 2015, the Director of the National Institute for Occupational Safety and Health (NIOSH) of the Centers for Disease Control and Prevention (CDC), published a notice in the Federal Register [80 FR 24930] announcing the availability of and a request for comments for the draft immediately dangerous to life or health (IDLH) values and support technical documents, entitled IDLH Values Profiles, for 14 chemicals. Written comments were to be received before the end of the comment period on June 30, 2015. Due to subsequent requests from the public, this Notice announces that NIOSH is seeking further comments on the draft IDLH Value Profile for peracetic acid (CAS #79-21-0) http://www.cdc.gov/niosh/docket/review/docket156a/pdfs/g1-013-peracetic-acid-cas-79-21-0.pdf for an additional 60 days.

DATES: Electronic or written comments on the draft IDLH Value Profile for peracetic acid must be received by October 11, 2016.

ADDRESSES: You may submit comments, identified by CDC-2016-0074 and docket number NIOSH 156-B, by either of the two following methods:

• Federal eRulemaking Portal: www.regulations.gov. Follow the instructions for submitting comments.

• Mail: National Institute for Occupational Safety and Health, NIOSH Docket Office, 1090 Tusculum Avenue, MS C-34, Cincinnati, OH 45226.

Instructions: All information received in response to this notice must include the agency name and docket number [CDC-2016-0074; NIOSH 156-B]. All relevant comments received will be posted without change to www.regulations.gov, including any personal information provided. For access to the docket to read background documents or comments received, go to www.regulations.gov.

FOR FURTHER INFORMATION CONTACT: G. Scott Dotson, NIOSH, Education and Information Division, Robert A. Taft Laboratories, 1090 Tusculum Avenue, MS C-32, Cincinnati, Ohio 45226, telephone (513) 5 33-8540 (not a toll free number).

SUPPLEMENTARY INFORMATION: The proposed IDLH value and draft IDLH Value Profile for peracetic acid is based on the process outlined in the NIOSH Current Intelligence Bulletin 66—Derivation of Immediately Dangerous to Life or Health (IDLH) Values http://www.cdc.gov/niosh/docs/2014-100/pdfs/2014-100.pdf. The draft IDLH Value Profile was developed to provide the scientific rationale behind the derivation of the proposed IDLH value for peracetic acid. This includes a detailed summary of the health hazards of acute exposure to high airborne concentrations of peracetic acid and the rationale for the proposed IDLH value for peracetic acid.

To facilitate the review of this draft document, NIOSH requests that the following questions be taken into consideration:

1. Does this document clearly outline the health hazards associated with acute (or short-term) exposures to peracetic acid? If not, what specific information is missing from the document?

2. Are the rationale and logic behind the derivation of an IDLH value for peracetic acid clearly explained? If not, what specific information is needed to clarify the basis of the IDLH value?

3. Are the conclusions supported by the data?

4. Are the tables clear and appropriate?

5. Is the document organized appropriately? If not, what improvements are needed?

6. Are you aware of any scientific data reported in governmental publications, databases, peer-reviewed journals, or other sources that should be included within this document?

John Howard,
Director, National Institute for Occupational Safety and Health, Centers for Disease Control and Prevention.

[FR Doc. 2016-19051 Filed 8-10-16; 8:45 am]

BILLING CODE 4163-19-P